DEPARTMENT OF ENERGY

Federal Energy Regulatory Commission

[Docket No. PR01-7-000]

Transok, LLC; Notice of Settlement Conference

May 23, 2001.

Take notice that a settlement conference will be held on Friday, June 8, 2001, at 9 a.m., in a room to be designated at the offices of the Federal Energy Regulatory Commission, 888 First Street, NE., Washington, DC 20426.

All interested parties and Staff are permitted to attend.

David P. Boergers,
Secretary.

[FR Doc. 01-13481 Filed 5-29-01; 8:45 am]

BILLING CODE 6717-01-M